DEPARTMENT OF THE INTERIOR

Bureau of Land Management

[CA-310-1820-AE]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, Oct. 8 and 9, 2003, in the Conference Room of the Bureau of Land Management's Alturas Arcata Field Office, 1695 Heindon Rd., Arcata, California. On October 8, the meeting begins at 10 a.m. for a field tour on public lands managed by the BLM Arcata Field Office. On October 9, the meeting begins at 8 a.m. in the conference room of the BLM field office. Time for public comments has been set aside for 1 p.m. on October 9.

FOR FURTHER INFORMATION CONTACT: Rich Burns, Field Manager, BLM Ukiah Field Office, 2550 North State St., Ukiah, California, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will include review of the final management plan for the Headwaters Forest Reserve, development of a recommendation on the BLM's Sustaining Working Landscapes initiative, a status report on management of the South Spit area of Humboldt Bay and an update of wilderness study area management. The RAC members will also hear status reports from the Arcata, Redding and Ukiah field office managers. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: September 3, 2003.
Joseph J. Fontana,
Public Affairs Officer.

[FR Doc. 03-23108 Filed 9-10-03; 8:45 am]

BILLING CODE 4310-40-P